DEPARTMENT OF THE INTERIOR

Fish and Wildlife Service

[FWS-R1-R-2013-N010; 12560-0000-10137 S3]

Bandon Marsh, Nestucca Bay, and Siletz Bay National Wildlife Refuges, Coos, Tillamook, and Lincoln Counties, OR; Final Comprehensive Conservation Plans and Findings of No Significant Impact for Environmental Assessments

AGENCY: Fish and Wildlife Service, Interior.

ACTION: Notice of availability.

SUMMARY: We, the U.S. Fish and Wildlife Service (Service), announce the availability of the final Comprehensive Conservation Plans (CCPs) and Findings of No Significant Impact (FONSIs) for the Environmental Assessments (EAs) for three Oregon refuges—Bandon Marsh, Nestucca Bay, and Siletz Bay National Wildlife Refuges (NWR or refuge). Each refuge's final CCP describes how we will manage that refuge for the next 15 years.

ADDRESSES: You may view or obtain copies of the final CCPs and FONSIs by any of the following methods. You may request hard copies or a CD of the documents.

Agency Web site: Download the final CCPs and FONSIs at www.fws.gov/oregoncoast/ccp_nes_slz_bdm.htm.

Email: oregoncoastCCP@fws.gov. Include “Bandon Marsh, Nestucca Bay, and Siletz Bay final CCPs and FONSIs” in the subject line of the message.

U.S. Mail: Oregon Coast National Wildlife Refuge Complex, 2127 SE Marine Science Drive, Newport, OR 97365.

In-Person Viewing or Pickup: Call 541-867-4550 to make an appointment during regular business hours at the above address. For more information on locations for viewing or obtaining documents, see “Public Availability of Documents” under SUPPLEMENTARY INFORMATION.

FOR FURTHER INFORMATION CONTACT: Roy W. Lowe, Project Leader, Oregon Coast National Wildlife Refuge Complex, 2127 SE Marine Science Drive, Newport, OR 97365; phone (541) 867-4550 and fax (541) 867-4551.

SUPPLEMENTARY INFORMATION:

Introduction

With this notice, we finalize the CCP process for Bandon Marsh, Nestucca Bay, and Siletz Bay National Wildlife Refuges in Coos, Tillamook, and Lincoln Counties, Oregon, respectively. We started this process through a notice in the Federal Register (75 FR 73121; November 29, 2010). We released the draft CCP/EAs to the public, announcing and requesting comments in a notice of availability in the Federal Register (77 FR 57107; September 17, 2012). For more information about the history and purposes of the refuges, see that notice.

We announce our decision and the availability of the FONSIs for the CCPs for Bandon Marsh, Nestucca Bay, and Siletz Bay NWRs in accordance with National Environmental Policy Act (NEPA) (40 CFR 1506.6(b)) requirements. We completed a thorough analysis of impacts on the human environment, which we included in the draft CCP/EAs.

The final CCPs will guide us in managing and administering the refuges for the next 15 years. Alternative C, as described in the draft CCP/EAs, forms the basis of the final CCPs.

Background

The CCP Process

The National Wildlife Refuge System Administration Act of 1966, as amended by the National Wildlife Refuge System Improvement Act of 1997 (together referred to as the Refuge Administration Act), 16 U.S.C. 668dd-668ee, requires us to develop a CCP for each national wildlife refuge. The purpose for developing a CCP is to provide refuge managers with a 15-year plan for achieving refuge purposes and contributing toward the mission of the National Wildlife Refuge System, consistent with sound principles of fish and wildlife management, conservation, legal mandates, our policies, and NEPA. In addition to outlining broad management direction on conserving wildlife and their habitats, CCPs identify compatible wildlife-dependent recreational opportunities available to the public, including opportunities for hunting, fishing, wildlife observation and photography, and environmental education and interpretation. We will review and update each CCP at least every 15 years in accordance with the Refuge Administration Act. Implementing a CCP is subject to the availability of funding and any additional compliance requirements.

CCP Alternatives, Including Selected Alternatives

During our CCP planning process, we, other governmental partners, Tribes, and the public identified several issues. To address these issues, we developed and evaluated alternatives and identified the preferred alternatives for each refuge. The preferred alternatives are briefly summarized below. For full details of all the alternatives, please review the draft CCPs/EAs (see the Public Availability of Documents section for ways to view or obtain the CCPs/EAs).

Bandon Marsh NWR

Preferred Alternative (Alternative C): Enhanced Active Habitat Management and Restoration and Visitor Services

Active habitat management, monitoring, and restoration activities are part of this alternative. In addition to the existing waterfowl hunting program on the Bandon Marsh Unit, hunting would be allowed on 300 acres of the Ni-les'tun Unit 3 days per week. Fishing for cutthroat trout would be permitted in Redd, No Name, and Fahys Creeks south of North Bank Lane, in accordance with State regulations but with an additional refuge regulation of artificial lures or flies only. The start of the season would coincide with the Oregon Department of Fish and Wildlife's season for trout fishing; however, the season on the refuge would end on September 30 to avoid conflicts with the waterfowl hunting season. A portion of the Ni-les'tun Unit would be open to wildlife observation and photography daily except during the waterfowl hunting season. Additional trails and parking lots would be constructed. Some administrative and visitor facilities would be replaced. The refuge would focus on participation in partner- and community-based visitor information projects.

Nestucca Bay NWR

Preferred Alternative (Alternative C): Enhanced Active Habitat Management and Monitoring and Visitor Services

All lowland pastures would continue to be managed for wintering goose habitat through cooperative farming agreements. A hydrological study would be conducted and used to guide the future modification of the tsunami evacuation trail through Neskowin Marsh to improve hydrology and accessibility. The Neskowin Marsh Unit would be proposed for designation as a Research Natural Area. The 25-acre full restoration of former coastal prairie on Cannery Hill would be focused on specific life-history parameters needed by the threatened Oregon silverspot butterfly, with the goal of introducing a nonessential experimental population once habitat parameters specified in the Oregon Silverspot Butterfly Recovery Plan are reached. An additional 14 acres of upland grassland would also be restored to coastal prairie. New trails and an observation deck would be constructed on Cannery Hill. The Little Nestucca Restoration area would gain a trail, as well as graveled parking lots. Brooten Marsh would be opened to access for wildlife observation and photography year round. A waterfowl hunting program would be established on Brooten Marsh (108 acres) and the mouth of the Little Nestucca River (33 acres), and clamming access would be allowed through Brooten Marsh. To accommodate increasing visitation to the refuge, the current refuge volunteer residence would be replaced with a bunkhouse and small administrative office. The Service would also remodel the north bay of the maintenance shop to accommodate two offices: one for maintenance staff and a second for the refuge Friends Group.

Siletz Bay NWR

Preferred Alternative (Alternative C): Enhanced Active Habitat Management and Visitor Services

Active habitat management, monitoring, and restoration activities are part of this alternative. Seasonal interpreter-led paddle trips would continue and potentially expand with the development of the boat launch near Alder Island. A loop trail, viewing platform, and parking lot would be developed at Alder Island. Access to clamming would be allowed through Snag Alley, and walk-in bank fishing would be allowed from Alder Island only. A waterfowl hunting program would be allowed daily in season on 80 acres of refuge lands west of Highway 101 and 3 days per week on 97 acres of refuge lands south of Millport Slough and east of Highway 101. A small gravel parking lot and kiosk would be developed to support the Millport Slough waterfowl hunting access.

Comments

We solicited public comments on the draft CCP/EAs for 30 days, from September 17 to October 22, 2012 (77 FR 57107). We received comments from 38 entities on the Bandon Marsh NWR draft CCP/EA, comments from 9 entities on the Nestucca Bay NWR draft CCP/EA, and a comment from 1 entity on the Siletz Bay NWR draft CCP/EA. Comments from 9 entities addressed all three draft CCP/EAs. All substantive comments regarding the separate Bandon Marsh NWR Land Protection Planning (LPP) process will be considered, addressed, and incorporated in draft LPP documents. To address public comments received on the draft CCP/EAs, responsive changes and clarifications were made to the final CCPs where appropriate. These changes are summarized in full within each FONSI. The major changes follow.

Bandon Marsh NWR

• The waterfowl hunting area acreage at the Ni-les'tun Unit has been changed from 300 to 299 acres.

Nestucca Bay NWR

• The objective related to upland coastal prairie restoration has been reworded to “restore up to 25 acres of native prairie by 2028 through a phased restoration project.”

• Wording regarding bank fishing has been changed from “actively pursuing opportunities” to “allow bank fishing on the east end of the Little Nestucca Restoration Area following development of access trail and gravel parking lot.”

Siletz Bay NWR

• The waterfowl hunting area acreage on refuge lands west of Highway 101 has been changed from 80 to 87 acres.

• The waterfowl hunting area acreage on refuge lands south of Millport Slough has been changed from 97 to 112 acres.

Selected Alternative

After considering the comments received, we have selected Alternative C within each CCP for implementation. The goals, objectives, and strategies under Alternative C best achieve the purpose and need for each CCP while maintaining balance among the varied management needs and programs. Alternative C within each CCP addresses the refuge purposes, issues, and relevant mandates and is consistent with principles of sound fish and wildlife management.

Public Availability of Documents

In addition to any methods in ADDRESSES, you can view or obtain documents by calling the refuge complex at 541-867-4550 or visiting our Web site at http://www.fws.gov/oregoncoast/ccp_nes_slz_bdm.htm. Printed copies will be available for review at the following libraries:

• Bandon Public Library, 1204 11th St. SW., Bandon, OR 97411.

• Coquille Public Library, 105 N. Birch St., Coquille, OR 97423.

• Newport Public Library, 35 NW Nye St., Newport, OR 97365.

• Driftwood Public Library, 801 SW Hwy 101 #201, Lincoln City, OR 97367.

• Pacific City Public Library, 6200 Camp Street, Pacific City, OR 97135.

• Tillamook County Library, 1716 3rd St., Tillamook, OR 97141.

Dated: February 12, 2013.
Robyn Thorson,
Regional Director, Pacific Region, U.S. Fish and Wildlife Service.

[FR Doc. 2013-10899 Filed 5-10-13; 8:45 am]

BILLING CODE 4310-55-P